DEPARTMENT OF DEFENSE

Department of the Navy

Notice of Availability of Government-Owned Inventions; Available for Licensing

AGENCY: Department of the Navy, DOD.

ACTION: Notice.

SUMMARY: The inventions listed below are assigned to the United States Government as represented by the Secretary of the Navy and are available for licensing by the Department of the Navy.

The following patents are available for licensing: U.S. Patent Number 6,240,727: Manufacture of nitinol rings for thermally responsive control of casing latch. U.S. Patent Number 6,248,275: Process for Synthesizing Composite Material Components with curved surfaces. U.S. Patent Number 6,259,092: Thickness determination of Carbonaceous overlayers on substrates of differing material. U.S. Patent Number 6,260,500: Emergency Ship Towing System. U.S. Patent Number 6,263,297: Programmed computation of predicted loading of ship hull. U.S. Patent Number 6,267,012: Tensile Specimen Test Grip. U.S. Patent Number 6,276,293: Skidplate having non-symmetrical hydrofoil profiles producing skid-opposing side force only during turn maneuver. U.S. Patent Number 6,278,272: Integrating Fluxgate Magnetometer. U.S. Patent Number 6,283,677: Tailorable Elastomeric Composite Pneumatic Fender System for absorbing high energy impact. U.S. Patent Number 6,286,410: Buoyantly Propelled Submerged Canister for Air Vehicle Launch. U.S. Patent Number 6,294,849: Magnetostrictive Actuator with load Compensating Operational Modification. U.S. Patent Number 6,298,963: Tuned Broadband Vibrational Dissipator. U.S. Patent Number 6,300,855: Hysteresis reduction in Giant Magnetostrictive materials. U.S. Patent Number 6,311,445: Modular Louver System. U.S. Patent Number 6,315,946: Ultra low carbon baintic weathering steel. U.S. Patent Number 6,320,821: Fluidborne Sound Projector. U.S. Patent Number 6,325,566: Load-Sensing Multi-Axis Connector. U.S. Patent Number 6,333,092: Fractal Interfacial Enhancement of Composite Delamination Resistance. U.S. Patent Number 6,335,708: Antenna Transfer Assembly with Jam Preventing Inserts. U.S. Patent Number 6,338,456: Landing Impact Absorbing Deployment System for aircraft with damaged landing gear. U.S. Patent Number 6,341,450: Composite Water-Tight Door Panel Installation. U.S. Patent Number 6,343,563: Modular Bulwark Deck Shielding Construction and Assemblage. U.S. Patent Number 6,344,246: Laser Irradiation induced non-skid surface layer formation on substrate. U.S. Patent Number 6,344,743: Standing Wave Magnetometer. U.S. Patent Number 6,353,407: Radar Tank Level indicating system for measurement of water content in shipboard tank involving identification of fuel-water interface. U.S. Patent Number 6,376,831: Neural Network System for estimating conditions on Submerged Surfaces of Seawater Vessels. U.S. Patent Number 6,381,196: Sintered Viscoelastic Particle Vibration Damping Treatment. U.S. Patent Number 6,382,912: Centrifugal Compressor with Vaneless Diffuser. U.S. Patent Number 6,385,514: Shipboard System for furnishing information of mine threat vulnerability. U.S. Patent Number 6,386,830: Quiet and efficient high pressure fan assembly. U.S. Patent Number 6,393,765: Superelastic Sealing Closures. U.S. Patent Number 6,398,165: Protective Enclosure with Peripheral Storage Facility. U.S. Patent Number 6,401,590: Exhaust Blockage System for engine shut down. U.S. Patent Number 6,410,999: Magnetostrictive Magnetically Controlled Sprag Locking Motor. U.S. Patent Number 6,411,105: Nondestructive Detection of Steel Surface Corrosion. U.S. Patent Number 6,412,784: Split Face Mechanical Seal System. U.S. Patent Number 6,416,369: Underwater Towing of Marine Vessels. U.S. Patent Number 6,417,665: Spatially Integrating Fluxgate Magnetometer having a flexible magnetic core.

ADDRESSES: Requests for copies of the patents cited should be directed to: Naval Surface Warfare Center Carderock Division, Code 0117, 9500 MacArthur Boulevard, West Bethesda, MD 20817-5700, and must include the patent number.

FOR FURTHER INFORMATION CONTACT: Mr. Dick Bloomquist, Director, Technology Transfer Office, Naval Surface Warfare Center Carderock Division, Code 0117, 9500 MacArthur Boulevard, West Bethesda, MD 20817-5700, telephone (301) 227-4299.

(Authority: 35 U.S.C. 207, 37 CFR part 404)
Dated: August 29, 2002.
R.E. Vincent II,
Lieutenant Commander, Judge Advocate General's Corps, U.S. Navy, Federal Register Liaison Officer.

[FR Doc. 02-23305 Filed 9-12-02; 8:45 am]

BILLING CODE 3810-FF-P